DEPARTMENT OF THE TREASURY

Agency Information Collection Activities; Submission for OMB Review; Comment Request; Notice to Account Holder for Garnishment of Accounts Containing Federal Benefit Payments

AGENCY: Departmental Offices, U.S. Department of the Treasury

ACTION: Notice.

SUMMARY: The Department of the Treasury will submit the following information collection request(s) to the Office of Management and Budget (OMB) for review and clearance in accordance with the Paperwork Reduction Act of 1995, on or after the date of publication of this notice. The public is invited to submit comments on the collection(s) listed below.

DATES: Comments should be received on or before May 15, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0489, or viewing the entire information collection request at www.reginfo.gov.

SUPPLEMENTARY INFORMATION:

Departmental Offices (DO)

Title: Notice to Account Holder for Garnishment of Accounts Containing Federal Benefit Payments.

OMB Control Number: 1505-0230.

Type of Review: Extension without change of a currently approved collection.

Abstract: Certain federal benefits are exempt from garnishment orders. In order to give force and effect to federal anti-garnishment statutes, financial institutions and child support enforcement agencies must maintain records of actions taken in handling garnishments and provide notices to financial account holders.

Form: None.

Affected Public: Businesses or other for-profits, State Governments.

Estimated Total Annual Burden Hours: 23,354.

Authority: 44 U.S.C. 3501 et seq.

Dated: April 10, 2017.
Spencer W. Clark,
Treasury PRA Clearance Officer.

[FR Doc. 2017-07521 Filed 4-13-17; 8:45 am]

BILLING CODE 4810-25-P